DEPARTMENT OF COMMERCE

International Trade Administration

[A-570-601]

Tapered Roller Bearings and Parts Thereof, Finished and Unfinished, From the People's Republic of China: Final Results of the 2008-2009 Antidumping Duty Administrative Review

AGENCY: Import Administration, International Trade Administration, Department of Commerce.

SUMMARY: On July 15, 2010, the Department of Commerce (“Department”) published the preliminary results of the 2008-2009 administrative review of tapered roller bearings (“TRBs”) from the People's Republic of China (“PRC”). See Tapered Roller Bearings and Parts Thereof, Finished or Unfinished, From the People's Republic of China: Preliminary Results of the 2008-2009 Administrative Review of the Antidumping Duty Order, 75 FR 41148 (July 15, 2010) (“Preliminary Results”). The period of review (“POR”) is June 1, 2008, through May 31, 2009.

This review covers three respondents: (1) The majority Spungen family-owned joint-venture Peer Bearing Company Ltd.—Changshan (“PBCD/CPZ,” also referred to as “PBCD”); (2) the wholly AB SKF-owned Changshan Peer Bearing Company, Ltd. (“SKF/CPZ,” also referred to as “SKF”); and 3) Hubei New Torch Science & Technology Company Co., Ltd. (“New Torch”).

We invited interested parties to comment on our Preliminary Results. Based on our analysis of the comments received, we made certain changes to our margin calculations for PBCD, SKF, and New Torch. The final dumping margins for this review are listed in the “Final Results Margins” section below.

DATES: Effective Date: January 19, 2011.

FOR FURTHER INFORMATION CONTACT: Brendan Quinn or Trisha Tran, AD/CVD Operations, Office 8, Import Administration, International Trade Administration, U.S. Department of Commerce, 14th Street and Constitution Avenue, NW., Washington, DC 20230; telephone: (202) 482-5848 and (202) 482-4852, respectively.

Background

On July 15, 2010, the Department published its Preliminary Results in the antidumping duty administrative review of TRBs from the PRC. On July 26, 2010, New Torch submitted its response to the Department's supplemental questionnaire regarding its wheel hub units. On August 16, 2010, the Timken Company (“Petitioner”) submitted a request for a public and closed hearings. On August 17, 2010, New Torch submitted its response to the Department's second supplemental questionnaire regarding its wheel hub units. Petitioner submitted comments regarding New Torch's response to the Department's second supplemental questionnaire on August 27, 2010. PBCD submitted post-preliminary surrogate value data on August 19, 2010. On August 30, 2010, Petitioner submitted surrogate value information to rebut PBCD's post-preliminary surrogate value data submission. The Department released U.S. Customs and Border Protection (“CBP”) information on September 9, 2010. On September 17, 2010, Petitioner submitted public information regarding the Department's release of the September 9, 2010, CBP data.

Between October 1 and October 4, 2010, Petitioner, PBCD, and New Torch submitted their case briefs, and between October 12 and October 13, 2010, Petitioner, PBCD, New Torch, and SKF submitted their rebuttal briefs. On October 14, 2010, Petitioner withdrew its request for a public and closed hearings. On October 18, 2010, PBCD commented on SKF's rebuttal brief, requesting that the Department strike new factual information contained in SKF's rebuttal brief. On October 19, 2010, SKF responded to PBCD's October 18, 2010, submission. On November 4, 2010, the Department requested that SKF strike new factual information contained in SKF's rebuttal brief. On November 8, 2010, SKF resubmitted its redacted rebuttal brief.

The Department released industry-specific wage rate information on October 26, 2010, and solicited new factual information from parties, as well as comments on the Department's intended use of industry-specific wage data. On November 1 and November 2, 2010, respectively, SKF and Petitioner submitted new factual information regarding the wage rate. Petitioner and SKF submitted addenda to their case briefs with respect to the wage rate on November 9, 2010, and addenda to their rebuttal briefs with respect to the wage rate on November 15, 2010.

On September 21, 2010, the Department published an extension of time for the final results to December 12, 2010. See Tapered Roller Bearings and Parts Thereof, Finished and Unfinished, from the People's Republic of China; Extension of Time Limit for the Final Results of the 2008-2009 Administrative Review of the Antidumping Duty Order, 75 FR 57443 (September 21, 2010). On November 26, 2010, the Department extended the deadline for the final results of review to January 11, 2011. See Tapered Roller Bearings and Parts Thereof, Finished and Unfinished, From the People's Republic of China: Notice of Second Extension of Time Limit for the Final Results of the 2008-2009 Administrative Review of the Antidumping Duty Order, 75 FR 72801 (November 26, 2010).

Analysis of Comments Received

All issues raised in the case and rebuttal briefs filed by parties in this review are addressed in the Memorandum from Christian Marsh, Deputy Assistant Secretary for Antidumping and Countervailing Duty Operations, to Ronald K. Lorentzen, Deputy Assistant Secretary for Import Administration, regarding, “Tapered Roller Bearings from the People's Republic of China: Issues and Decision Memorandum for the Final Results of the 2008-2009 Administrative Review,” dated concurrently with this notice (“Issues and Decision Memorandum”), which is hereby adopted by this notice. A list of the issues that parties raised and to which we responded in the Issues and Decision Memorandum follows as an appendix to this notice. The Issues and Decision Memorandum is a public document and is on file in the Central Records Unit (“CRU”), Main Commerce Building, Room 7046, and is also accessible on the Web at http://ia.ita.doc.gov/frn. The paper copy and electronic version of the Issues and Decision Memorandum are identical in content.

Period of Review

The POR is June 1, 2008, through May 31, 2009.

Scope of the Order

Imports covered by the order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15 ¹ and 8708.99.80.80.² Although the HTSUS item numbers are provided for convenience and customs purposes, the written description of the scope of the order is dispositive.

¹ Effective January 1, 2007, the HTSUS subheading 8708.99.8015 is renumbered as 8708.99.8115. See United States International Trade Commission (“USITC”) publication entitled, “Modifications to the Harmonized Tariff Schedule of the United States Under Section 1206 of the Omnibus Trade and Competitiveness Act of 1988,” USITC Publication 3898 (December 2006) found at www.usitc.gov.

² Effective January 1, 2007, the HTSUS subheading 8708.99.8080 is renumbered as 8708.99.8180; see id.

Scope Determination—New Torch's Wheel Hub Units

In the Preliminary Results, the Department initiated a scope inquiry to determine whether New Torch's sales of wheel hub units were subject to the antidumping duty order on TRBs, and stated that we intended to seek additional information with respect to New Torch's merchandise. Based on New Torch's supplemental responses,³ we find that New Torch's wheel hub units do not contain TRBs and are, therefore, outside the scope of the order.

³ See New Torch's July 26, 2010, submission; see also New Torch's August 17, 2010, submission.

Affiliation—SKF/CPZ and Company A ⁴

⁴ The identity of “Company A” is proprietary. See the Department's letter to SKF entitled, “2008-2009 Administrative Review of the Antidumping Duty Order on Tapered Roller Bearings from the People's Republic of China: Second Section A Supplemental Questionnaire,” dated July 2, 2010.

In its questionnaire responses, SKF/CPZ indicated that it was affiliated with Company A. For purposes of the Preliminary Results, the Department determined not to conduct a collapsing analysis, pursuant to 19 CFR 351.401(f)(1) and (2), with respect to SKF/CPZ and Company A due to insufficient information on the record. Immediately prior to the Preliminary Results, we solicited additional information from SKF with respect to the level of common ownership and management and the integration of sales and production operations between SKF/CPZ and Company A, as well as information regarding Company A's sales of subject merchandise during the POR.⁵ On July 12, 2010, we received SKF's response to the Department's request for information, which stated that: (a) CPZ/SKF has no direct ownership interest in Company A, or vice versa; (b) the companies do not share common managerial employees or board members; (c) the operations of the two companies are not intertwined; and (d) Company A provided quantity and value information for the products it exported and sold domestically during the POR.⁶ We received no further comments on the collapsing issue for these final results and, based on the information provided in SKF's July 12, 2010, letter, we have found that: (a) There is no significant potential for price or production manipulation between SKF/CPZ and Company A; and (b) Company A did not produce subject merchandise for export to the United States. Thus, we have determined that Company A should not be collapsed with SKF for the purposes of the instant review, in accordance with 19 CFR 351.401(f)(2).

⁵ See id.

⁶ See SKF's Letter to the Department entitled, “SKF's Response to the Department's Second Section A Supplemental Questionnaire,” dated July 12, 2010.

Successor in Interest—SKF/CPZ

On September 11, 2008, approximately three and a half months into the POR, PBCD/CPZ and its Illinois-based U.S. sales affiliate, Spungen-owned Peer Bearing Company (“PBCD/Peer”), were each acquired by AB SKF, a Swedish conglomerate, and henceforth known as SKF/CPZ and SKF-owned Peer Bearing Company (“SKF/Peer”), respectively. In addition, on August 28, 2009, SKF submitted a request for a changed circumstance review (“CCR”) to determine that SKF/CPZ is not the successor-in-interest to PBCD/CPZ. On September 30, 2009, the Department informed parties that the information provided in SKF's August 28, 2009, submission was sufficient to warrant a successor-in-interest analysis regarding SKF's acquisition of PBCD/CPZ, and that this determination would be performed within the context of the instant administrative review. For the Preliminary Results, the Department determined that the totality of the circumstances demonstrated that SKF/CPZ is not the successor-in-interest to PBCD/CPZ.⁷ Since the publication of the Preliminary Results, no party has challenged the Department's preliminary successor-in-interest determination and no new information was submitted with respect to the Department's preliminary successor-in-interest determination. As such, we continue to find that SKF/CPZ is not the successor-in-interest to the pre-acquisition PBCD/CPZ.

⁷ See Preliminary Results, 75 FR at 41151-52. See also Memorandum to Wendy Frankel, Director, AD/CVD Operations, Office 8, Import Administration, through Erin Begnal, Program Manager, AD/CVD Operations, Office 8, from Brendan Quinn, International Trade Analyst, AD/CVD Operations, Office 8, entitled “Tapered Roller Bearings from the People's Republic of China: Preliminary Successor-In-Interest Determination,” dated July 7, 2010.

Changes Since the Preliminary Results

Based on an analysis of the comments received, the Department has made certain changes to the margin calculations. For the final results, the Department has made the following changes:

Changes to New Torch's Margin Calculation:

• We deducted domestic inland freight from New Torch's U.S. gross unit price because New Torch explained that it incurred domestic inland freight expenses for the transport of subject merchandise by truck from its factory to the port of export.⁸

⁸ See Issues and Decision Memorandum at Comment 2.

• We have deducted domestic brokerage and handling charges from New Torch's reported U.S. prices because New Torch would have incurred some charges for loading the subject merchandise onto vessels for export to the United States based on New Torch's reported terms of delivery.⁹

⁹ See Issues and Decision Memorandum at Comment 3.

• We have revised New Torch's entered value calculation to be consistent with the Department's normal practice.¹⁰

¹⁰ See Issues and Decision Memorandum at Comment 4. See also 2008-2009 Administrative Review of the Antidumping Duty Order on Tapered Roller Bearings and Parts Thereof, Finished or Unfinished, from the People's Republic of China: Analysis of the Final Results Margin Calculation for Hubei New Torch Science & Technology Co., Ltd., dated concurrently with this notice.

Changes to SKF's and PBCD's Margin Calculations:

• We have used the PBCD-specific and SKF-specific U.S. sales databases, and not the combined joint U.S. sales database used in the Preliminary Results, in order to properly calculate each company's net U.S. prices for use in each company's margin calculation.¹¹

¹¹ See Issues and Decision Memorandum at Comment 9.

• We are including the international freight expense associated with sending the unfinished bearings to the third country for further processing, as reported, in the further manufacturing direct materials cost (FURMAT) component of total third-country further manufacturing (TOTFMG or FURMANU) calculation.¹²

¹² See Issues and Decision Memorandum at Comment 10.

• We have calculated SKF's assessment rates based on its reported entered values for the final results, based on SKF's December 8, 2010 submission of entered value information not previously on the record.¹³

¹³ See Issues and Decision Memorandum at Comment 11.

• The Department has adjusted SKF's net U.S. price calculation for the amount of duty owed, based on SKF's December 8, 2010, submission of information regarding duty owed.¹⁴

¹⁴ See Issues and Decision Memorandum at Comment 12.

• We have used PBCD's steel consumption as reported.¹⁵

¹⁵ See Issues and Decision Memorandum at Comment 13.

Changes to Surrogate Values

• We have calculated a revised hourly wage rate to use in valuing reported labor. The revised wage rate is calculated by averaging earnings and/or wages for ISIC Rev. 3 Sub-Classification 29 (Manufacture of machinery and equipment) in countries that are economically comparable to the PRC that are also significant producers of comparable merchandise.¹⁶

¹⁶ See Issues and Decision Memorandum at Comment 17.

• We have revised the steel bar surrogate value to exclude imports from certain countries under the relevant Indian HTS category.¹⁷

¹⁷ See Issues and Decision Memorandum at Comment 14. See also Factors Valuations for the Final Results of the 2008-2009 Administrative Review of the Antidumping Duty Order on Tapered Roller Bearings and Parts Thereof, Finished or Unfinished, from the People's Republic of China, dated concurrently with this notice.

Final Results Margins

We determine that the following weighted-average dumping margins exist for the period June 1, 2008, through May 31, 2009:

TRBs From the PRC
Exporter | Weighted-average margin
Peer Bearing Company—Changshan (Spungen-Owned, “PBCD”) | 38.39%
Changshan Peer Bearing Co., Ltd. (SKF-Owned, “SKF”) | 14.13%
Hubei New Torch Science & Technology Co., Ltd | 0.00%

Assessment Rates

Pursuant to section 751(a)(2)(A) of the Act and 19 CFR 351.212(b), the Department will determine, and CBP shall assess, antidumping duties on all appropriate entries of subject merchandise in accordance with the final results of this review. For assessment purposes, we calculated importer- (or customer-) specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer-) specific assessment rate is de minimis (i.e., less than 0.50 percent), the Department will instruct CBP to assess that importer's (or customer's) entries of subject merchandise without regard to antidumping duties, in accordance with 19 CFR 351.106(c)(2). We intend to instruct CBP to liquidate entries containing subject merchandise exported by the PRC-wide entity at the PRC-wide rate of 92.84 percent. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) For PBCD, SKF, and New Torch, the cash deposit rate will be the margins listed above; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 92.84 percent; and (4) for all non-PRC exporters of subject merchandise which have not received their own rate, the cash deposit rate will be the rate applicable to the PRC exporter that supplied that non-PRC exporter. These deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Tariff Act of 1930, as amended.

Dated: January 11, 2011.
Ronald K. Lorentzen,
Deputy Assistant Secretary for Import Administration.

Appendix I

Comment 1: Whether To Apply Partial Facts Available to New Torch's Sales of Wheel Hub Units

Comment 2: Treatment of Domestic Inland Freight

Comment 3: Treatment of Brokerage and Handling

Comment 4: Entered Value Calculation

Comment 5: Correcting for Alleged Distortions Associated With a Three-Month Production Period

Comment 6: Country of Origin

Comment 7: Importer-Specific Assessment Rates

Comment 8: Valuation of Acquired Inventory

Comment 9: Which U.S. Sales Database To Use

Comment 10: Calculation of Further Processing Costs

Comment 11: Corrections to Entered Value

Comment 12: Correction of Duty Amount

Comment 13: Treatment of Certain Steel Inputs in PBCD/CPZ's Normal Value

Comment 14: Valuation of Steel Bar

Comment 14A: Market Economy Inputs

Comment 14B: Surrogate Value

Comment 15: Surrogate Value for Steel Rod

Comment 16: Adjustments to Financial Ratio

Comment 17: Wages

[FR Doc. 2011-1026 Filed 1-18-11; 8:45 am]

BILLING CODE 3510-P